DEPARTMENT OF ENERGY

Federal Energy Regulatory Commission

[Project No. 2114-WA]

Public Utility District No. 2 of Grant County; Notice of Public Utility District No. 2 of Grant County's Request to Use Alternative Procedures in Filing a License Application

January 12, 2000.

On December 15, 1999, the existing licensee, Public Utility District No. 2 of Grant County (Grant PUD), filed a request pursuant to use the Commission's alternative procedures in submitting an application for a new license for the existing Priest Rapids Hydroelectric Project No. 2114. The 1,994-megawatt hydroelectric project includes two dams, Priest Rapids Dam and Wanapum Dam, and two powerhouses. The project is located on the Columbia River, in the center of the state of Washington. Grant PUD has demonstrated that it has made an effort to contact resource agencies, Indian tribes, nongovernmental organizations (NGOs), and others affected by the proposal, and that a consensus likely exists that the use of the alternative procedures is appropriate in this case. Grant PUD has also submitted a communications protocol that was developed in consultation with interested entities.

The purpose of this notice is to invite comments on Grant PUD's request to use the alternative procedures, pursuant to section 4.34(i) of the Commission's regulations.¹ Additional notices seeking comments on the specific project proposal, interventions and protests, and recommended terms and conditions will be issued at a later date.

¹ Order No. 596, Regulations for the Licensing of Hydroelectric Projects, 81 FERC ¶ 61,103 (1997).

The alternative procedure being requested here combines the prefiling consultation process with the environmental review process, allowing the applicant to complete and file an Environmental Assessment (EA) in lieu of Exhibit E of the license application. This differs from the traditional process, in which the applicant consults with agencies, Indian tribes, and NGOs during preparation of the application for the license and before filing it, but the Commission staff performs the environmental review after the application is filed. The alternative procedures are intended to improve the licensing process by combining the prefiling consultation and environmental review processes into a single process, to facilitate greater application, and to improve communication and cooperation among the participants.

Alternative Licensing Process and Priest Rapids Schedule

Grant PUD has submitted a proposed schedule for the process that leads to the filing of a new license application by October, 2003. Public scoping meetings to determine the scope of environmental analysis that will be completed to support the Commission's licensing decision would be held in the spring of 2000. Studies of environmental issues and alternatives developed during scoping would be conducted through 2002 (if needed), with a draft application and draft applicant-prepared environmental assessment (APEA) to be issued for comment in early 2003.

Comments

Interested parties have 30 days from the date of this notice to file with the Commission, any comments on Grant PUD's proposal to use the alternative licensing procedures to file an application for the Priest Rapids Hydroelectric Project. The comments must be filed by providing an original and 8 copies as required by the Commission's regulations to: Federal Energy Regulatory Commission, Office of the Secretary, Dockets—Room 1A, 888 First Street, NE, Washington, DC 20426.

All comment filings must bear the heading “Comments on the Alternative Procedures,” and include the project name and number (Priest Rapids Hydroelectric Project No. 2114).

For further information on this process, please contact Charles Hall of the Federal Energy Regulatory Commission at 202-219-2852 or E-mail charles.hall@ferc.fed.us.

Linwood A. Watson, Jr.,
Acting Secretary.

[FR Doc. 00-1188 Filed 1-18-00; 8:45am]

BILLING CODE 6717-01-M